NUCLEAR REGULATORY COMMISSION

Public Workshop on Future Licensing Activities

AGENCY: Nuclear Regulatory Commission.

ACTION: Notice of public workshop.

SUMMARY: The Nuclear Regulatory Commission (NRC) has scheduled a public workshop to inform the public of the current and proposed activities of the NRC staff regarding future applications and to solicit public concerns and feedback on identified issues and challenges.

DATES: July 25, 2001, from 9 a.m.-8 p.m.; July 26, 2001, from 9 a.m.-1 p.m.

ADDRESSES: The workshop will be held in the NRC's Auditorium at Two White Flint North, 11545 Rockville Pike, Rockville, Maryland 20852-2738.

FOR FURTHER INFORMATION CONTACT: Contact Eric Benner, Mail Stop O-12D1, U.S. Nuclear Regulatory Commission, Washington, DC 20555-0001. Members of the public may pre-register for this meeting by contacting Eric Benner at (800) 368-5642, ext. 1171, or by Internet at ejb1@nrc.gov by July 20, 2001.

The NRC maintains an Agencywide Documents Access and Management System (ADAMS) which provides text and image files of NRC's public documents. These documents may be accessed through the NRC's Public Electronic Reading Room on the Internet at http://www.nrc.gov/NRC/ADAMS/Index.html. If you do not have access to ADAMS or if there are problems in accessing the documents located in ADAMS, contact the NRC Public Document Room (PDR) reference staff at 1-800-397-4209, 301-415-4737 or by e-mail to pdr@nrc.gov.

SUPPLEMENTARY INFORMATION: Recently, the nuclear industry has indicated that they may be submitting licensing applications in accordance with parts 50 and 52 of the Code of Federal Regulations (10 CFR parts 50 and 52) in the near future with the intent to build and operate new nuclear power plants. These submittals could include applications for Early Site Permits, Design Certifications, Combined Licenses, and Operating Licenses. Additional activities could include pre-application reviews related to these submittals and requests to reactivate Construction Permits to allow the applicant to resume construction of nuclear facilities.

The purpose of this workshop is to inform the public of the current and proposed activities of the NRC staff to prepare for these potential future licensing applications, discuss the mechanisms available to the public for providing input during these licensing activities, and to solicit public feedback on identified issues and challenges.

A final agenda and schedule will be published on the NRC future licensing web site when it is available: http://www.nrc.gov/NRC/REACTOR/FLO/index.htm

For each of the agenda topics, the NRC staff will describe the activity and the regulatory process governing the activity, discuss the actions the NRC is taking to prepare for the anticipated submittal, and provide an estimate of expected milestone dates, where available. The staff will discuss how the public can provide input to the staff during different stages of the activity. The remainder of the allotted time will then be used for an open dialogue among all workshop participants. The NRC staff will then briefly summarize the identified concerns.

In addition, the workshop will contain two open sessions to allow public participants to discuss issues not addressed or to have further discussions on the agenda items. The first of these sessions will be on the evening of July 25, 2001, to allow participation by individuals who cannot attend during the work day and will include a brief presentation by the NRC staff summarizing all of the agenda items. The second of these sessions will be held on the morning of July 26, 2001.

Following the workshop, the NRC staff will summarize and document the identified concerns. The summary will be sent to those workshop participants who request a written copy, as well as the Commission, and will be posted on NRC's future licensing website.

AGENDA TOPICS

Licensing Processes

Early Site Permits

10 CFR part 52 allows an applicant to apply for an early site permit, which provides for resolution of site safety, environmental protection, and emergency preparedness issues, independent of a specific nuclear plant review. The early site permit application must address the safety and environmental characteristics of the site and evaluate potential physical impediments to developing an emergency evacuation plan.

Design Certification

The NRC may certify a standard plant design through a rulemaking under 10 CFR part 52, independent of a specific site. Among other requirements, the design certification applicant must demonstrate that its design complies with current NRC regulations, provide a probabilistic risk assessment, and provide a proposed set of inspections, tests, analyses, and acceptance criteria that will demonstrate that the plant will operate in accordance with the design certification.

Combined License

A combined license, issued under 10 CFR part 52, authorizes construction of the facility and specifies the inspections, tests, and analyses that the licensee must perform. It will also specify the acceptance criteria that, if met, are necessary to provide reasonable assurance that the facility has been constructed and will be operated in conformity with the license and the applicable regulations.

Construction Inspection

The NRC is reactivating the construction inspection program revision effort suspended in 1994. This effort will include review and revisions of applicable inspection guidance and training for inspection of critical attributes of construction processes and activities.

Reactivation of Construction Permits

A licensee has indicated that it may consider resumption of construction and application for operation of an unfinished nuclear power plant. Resumption of construction would require the normal NRC reviews and inspections under the existing Construction Permit and application for operation would require the normal NRC reviews for an Operating License (OL) for the facility.

Regulatory Infrastructure

The NRC staff is planning to update some of its regulations to facilitate its review of new applications. The Nuclear Energy Institute is considering proposing a New Plant Regulatory Framework.

Current Activities

Readiness Assessment, Organizational Development, and Staffing

The NRC is performing a readiness assessment to develop postulated licensing scenarios for the future application reviews, including resource estimates and critical skills. In addition, the NRC is determining the appropriate organizational structure for future licensing activities and will be staffed accordingly.

Rulemaking

The NRC is currently revising several rules: (1) A revision to 10 CFR part 52 to clarify and incorporate lessons learned from previous design certifications; (2) a revision to 10 CFR Part 51 to address higher enrichment fuel; and (3) a revision to 10 CFR Part 51 to clarify the scope of alternative site reviews when applying for an Early Site Permit.

Pre-application Reviews

The NRC Policy Statement on advanced reactors encourages early interaction between applicants and vendors with the NRC. To that end, the following four applicants and vendors have initiated interactions with the NRC regarding different advanced reactor designs:

(1) Westinghouse “AP1000;” (2) Exelon “Pebble Bed Modular Reactor” (PBMR); (3) Westinghouse “International Reactor Innovative and Secure” (IRIS); and (4) General Atomics “Gas Turbine-Modular Helium Reactor” (GT-MHR).

Dated at Rockville, Maryland, this 13th day of June 2001.
For the Nuclear Regulatory Commission.
Richard J. Barrett,
Acting Director, Future Licensing Organization, Office of Nuclear Reactor Regulation.

[FR Doc. 01-15369 Filed 6-18-01; 8:45 am]

BILLING CODE 7590-01-P